DEPARTMENT OF STATE

[Public Notice 9937]

Determination and Certification Under Section 490(b)(l)(A) of the Foreign Assistance Act Relating to the Largest Exporting and Importing Countries or Certain Precursor Chemicals

Pursuant to Section 490(b)(l)(A) of the Foreign Assistance Act or 1961, as amended. I hereby determine and certify that the top five exporting and importing countries and economies of pseudoephedrine and ephedrine (Canada, China, Denmark, Egypt, France, Germany, Greece, India, Indonesia, Singapore, Republic of Korea, Switzerland and the United Kingdom) have cooperated fully with the United States, or have taken adequate steps on their own, to achieve full compliance with the goals and objectives established by the 1988 United Nations Convention Against Illicit Traffic in Narcotic Drugs and Psychotropic Substances.

This determination and certification shall be published in the Federal Register and copies shall be provided to the Congress together with the accompanying Memorandum of Justification.

Dated: March 6, 2017.
Thomas A. Shannon,
Under Secretary for Political Affairs.

[FR Doc. 2017-06207 Filed 3-28-17; 8:45 am]

BILLING CODE 4710-17-P